DEPARTMENT OF COMMERCE

National Oceanic and Atmospheric Administration

RIN: 0648-XH18

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a meeting of its Ecosystem Scientific and Statistical Committee (SSC) and Ad Hoc Marine Reserve Scientific and Statistical Committee (ADMRSSC) in Tampa, FL on May 6 & 7, 2008.

DATES: The Ecosystem SSC and Ad Hoc Marine Reserve SSC meeting will begin at 9 a.m. on Tuesday, May 6, 2008 and conclude by 5 p.m. on Wednesday, May 7, 2008.

ADDRESSES: The meeting will be held at the Quorum Hotel, 700 N. Westshore Blvd., Tampa, FL 33609.

Council address: Gulf of Mexico Fishery Management Council, 2203 North Lois Avenue, Suite 1100, Tampa, FL 33607.

FOR FURTHER INFORMATION CONTACT: Steven Atran, Population Dynamics Statistician, Gulf of Mexico Fishery Management Council; telephone: (813) 348-1630.

SUPPLEMENTARY INFORMATION: The Ecosystem SSC and Ad Hoc Marine Reserves SSC will hold an ecosystem modeling workshop to continue work on development and evaluation of ecosystem models as fishery management tools in the Gulf of Mexico. This will be the third such workshop held by the Ecosystem SSC. One focus of this upcoming workshop will be to examine the utility of ecosystem modeling to evaluate marine protected area (MPA) alternatives. The charge of the Ad Hoc Marine Reserves SSC includes making recommendations based on scientifically developed criteria for establishing reserves and testing their effectiveness as to whether they were working. Therefore, the Ad Hoc Marine Reserves SSC's purpose in this workshop is to provide their input as to the efficacy of this approach to evaluate reserves.

The objectives of this workshop are to:

1. Continue the process of developing and evaluating the Gulf of Mexico Ecosim with Ecopath model as well as other models that may provide alternative or supplemental type of analyses.

2. Examine the utility of ecosystem models as a tool to evaluate potential MPA alternatives.

3. Begin the development of a framework for incorporating ecosystem evaluations into the management decision-making process.

Copies of the agendas and other related materials can be obtained by calling (813) 348-1630.

Although other non-emergency issues not on the agendas may come before the SSC and ADMRSSC for discussion, in accordance with the Magnuson-Stevens Fishery Conservation and Management Act (Magnuson-Stevens Act), those issues may not be the subject of formal action during these meetings. Actions of the SSC will be restricted to those issues specifically identified in the agendas and any issues arising after publication of this notice that require emergency action under Section 305(c) of the Magnuson-Stevens Act, provided the public has been notified of the Council's intent to take action to address the emergency.

Special Accommodations

These meetings are physically accessible to people with disabilities. Requests for sign language interpretation or other auxiliary aids should be directed to Tina Trezza at the Council (see ADDRESSES) at least 5 working days prior to the meeting.

Dated: April 8, 2008.
Tracey L. Thompson,
Acting Director, Office of Sustainable Fisheries, National Marine Fisheries Service.

[FR Doc. E8-7789 Filed 4-11-08; 8:45 am]

BILLING CODE 3510-22-S